SMALL BUSINESS ADMINISTRATION

SBA Lender Risk Rating System

AGENCY: U.S. Small Business Administration.

ACTION: Notice of extension of comment period.

SUMMARY: On May 1, 2006 SBA published a notice seeking comments on its proposed Lender Risk Rating System and notifying SBA Lenders (including 7(a) Lenders and Certified Development Companies) of the availability of risk rating information through SBA's Lender Portal. SBA is extending the comment period an additional 30 days to July 15, 2006. Given the significant level of interest the Notice has generated, SBA believes the affected parties would find it beneficial to have more time to review the proposal and prepare their comments.

DATES: The comment period for the SBA Lender Risk Rating System Notice and Request for Comments published May 1, 2006 (71 FR 25624) is extended through July 15, 2006.

ADDRESSES: Address all comments by mail, hand delivery, or courier to John M. White, Deputy Associate Administrator, Office of Lender Oversight, U.S. Small Business Administration, 409 Third Street, SW., Washington, DC 20416; or via facsimile to (202) 205-6831; or by e-mail to proposedriskrating@sba.gov.

FOR FURTHER INFORMATION CONTACT: John M. White, Deputy Associate Administrator, at (202) 205-3049.

(Authority: 15 U.S.C. 634)

Dated: June 8, 2006.
Michael W. Hager,
Associate Deputy Administrator for the Office of Capital Access.

[FR Doc. E6-9344 Filed 6-14-06; 8:45 am]

BILLING CODE 8025-01-P